LEGAL SERVICES CORPORATION

Sunshine Act Meetings

TIME AND DATE: The Finance and the Operations and Regulations Committees of the Legal Services Corporation Board of Directors will meet virtually on June 9 and 13, 2025, respectively. The Finance Committee meeting will begin on June 9 at 2:30 p.m. Eastern Time and will continue until the conclusion of the Committee's agenda. On June 13, the Operations and Regulations Committee meeting will begin at 3:30 p.m. Eastern Time and will continue until the conclusion of the Committee's agenda.

PLACE: Public Notice of Virtual Meeting.

LSC will conduct the June 9 and June 13, 2025, meeting via videoconference. Unless otherwise noted herein, the LSC Board of Directors meeting will be open to public observation via LSC's YouTube channel: https://www.youtube.com/@LegalServicesCorp/streams.

STATUS: Open.

MATTERS TO BE CONSIDERED:

Monday, June 9, 2025—Finance Committee Meeting

1. Approval of Agenda

2. External Comments Regarding LSC's Fiscal Year 2027 Budget Request

3. Consider and Act on Other Business

4. Consider and Act on Adjournment of Meeting

Friday, June 13, 2025—Operations and Regulations Meeting

1. Approval of Agenda

2. Approval of Minutes of the Committee's Open Session Meeting on March 31, 2025

3. Consider and Act on 2025-2026 Regulatory Agenda

4. Briefing on Employee Travel Risk Assessment Programs

5. Briefing on Development and Centralization of Organizational Policies and Procedures

6. Consider and Act on Other Business

7. Consider and Act on Adjournment of Meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

(Authority: 5 U.S.C. 552b.)

Dated: May 28, 2025.
Stefanie Davis,
Deputy General Counsel, Legal Services Corporation.

[FR Doc. 2025-09994 Filed 5-29-25; 11:15 am]

BILLING CODE 7050-01-P